Title 3—

The President

Proclamation

Human Rights Day, Bill of Rights Day, and Human Rights Week, 2010

By the President of the United States of America

A Proclamation

In 1948, the United Nations General Assembly adopted the Universal Declaration of Human Rights. More than 60 years later, the Declaration reflects the world’s commitment to the idea that “all human beings are born free and equal in dignity and rights.” As Americans, this self-evident truth lies at the heart of our Declaration of Independence, our Constitution, and our Bill of Rights. It is a belief that, while every nation pursues a path rooted in the culture of its own citizens, certain rights belong to all people: freedom to live as they choose, to speak openly, to organize peacefully, to worship freely, and to participate fully in the public life of their society with confidence in the rule of law.

Freedom, justice, and peace for the world must begin with basic security and liberty in the lives of individual human beings. Today, we continue the fight to make universal human rights a reality for every person, regardless of race, gender, religion, nationality, sexual orientation, or circumstance. From the freedom to associate or criticize to the protection from violence or unlawful detention, these inherent civil rights are a matter of both pragmatic and moral necessity.

The challenges of a new century call for a world that is more purposeful and more united. The United States will always speak for those who are voiceless, defend those who are oppressed, and bear witness to those who want nothing more than to exercise their universal human rights. Our Bill of Rights protects these fundamental values at home, and guides our actions as we stand with those who seek to exercise their universal rights, wherever they live. Countries whose people choose their leaders and rely on the rule of law are more likely to be peaceful neighbors and prosperous partners in the world community.

Part of the price of our own blessings of freedom is standing up for the liberty of others. As we observe Human Rights Day, Bill of Rights Day, and Human Rights Week, let us recommit to advancing human rights as our common cause and moral imperative. Let us continue to stand with citizens, activists, and governments around the world who embrace democratic reforms and empower free expression. Together, we can advance the arc of human progress toward a more perfect Union and a more perfect world—one in which each human being lives with dignity, security, and equality.

NOW, THEREFORE, I, BARACK OBAMA, President of the United States of America, by virtue of the authority vested in me by the Constitution and the laws of the United States, do hereby proclaim December 10, 2010, as Human Rights Day; December 15, 2010, as Bill of Rights Day; and the week beginning December 10, 2010, as Human Rights Week. I call upon the people of the United States to mark these observances with appropriate ceremonies and activities.

IN WITNESS WHEREOF, I have hereunto set my hand this tenth day of December, in the year of our Lord two thousand ten, and of the Independence of the United States of America the two hundred and thirty-fifth.

[FR Doc. 2010-31566

Filed 12-13-10; 11:15 am]

Billing code 3195-W1-P